FEDERAL COMMUNICATIONS COMMISSION

47 CFR Part 2 and 95

[ET Docket No. 19-48; DA 19-152]

OET Seeks Comment on Modifying the Equipment Authorization Rules To Reflect the Updated Versions of the Currently Referenced ANSI C63.4 and ISO/IEC 17025 Standards

AGENCY: Federal Communications Commission.

ACTION: Proposed rule.

SUMMARY: In this document, the Commission's Office of Engineering and Technology (OET) sought comment on updating the Commission's rules and procedures to reflect recent changes to two standards: (1) ANSI C63.4a-2017 “American National Standard for Methods of Measurement of Radio-Noise Emissions from Low-Voltage Electrical and Electronic Equipment in the Range of 9 kHz to 40 GHz, Amendment 1: Test Site Validation;” and (2) ISO/IEC 17025:2017(E) “General requirements for the competence of testing and calibration laboratories.”

DATES: Submit comments on or before June 7, 2019 and reply comments on or before June 24, 2019.

ADDRESSES: Pursuant to sections 1.415 and 1.419 of the Commission's rules, 47 CFR 1.415 and 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the internet by accessing the ECFS: www.fcc.gov/ecfs.

Paper Filers: Parties who choose to file by paper must file an original and one copy of each filing. If more than one docket or rulemaking number appears in the caption of this proceeding, filers must submit two additional copies for each additional docket or rulemaking number.

Filings can be sent by hand or messenger delivery, by commercial overnight courier, or by first class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington DC 20554.

People with Disabilities: To request materials in accessible formats for people with disabilities (braille, large print, electronic files, audio format), send an email to fcc504@fcc.gov or call the Consumer & Governmental Affairs Bureau at 202-418-0530 (voice), 202-418-0432 (tty).

Documents are available for public inspection and copying during business hours at the FCC Reference Information Center, Portals II, 445 12th Street SW, Room CY-A257, Washington, DC 20554.

FOR FURTHER INFORMATION CONTACT: Mr. Brian Butler at Brian.Butler@fcc.gov, or (202) 418-2702 of the Office of Engineering and Technology.

SUPPLEMENTARY INFORMATION: This is a summary of the Office of Engineering and Technology's Public Notice in ET Docket No 19-48, released April 2, 2019. The full text of this document is available at https://www.fcc.gov/document/oet-seeks-comment-modifying-equipment-authorization-rules.

ANSI C63.4a-2017 can be purchased from the Institute of Electrical and Electronic Engineers (IEEE), 3916 Ranchero Drive, Ann Arbor, MI 48108, 1-800-699-9277, http://www.techstreet.com/ieee; (IEEE publications can also be purchased from the American National Standards Institute (ANSI) through its NSSN operation (www.nssn.org), at Customer Service, American National Standards Institute, 25 West 43rd Street, New York, NY 10036, telephone (212) 642-4900.

ISO/IEC publications can be purchased from the American National Standards Institute (ANSI) through its NSSN operation (www.nssn.org), at Customer Service, American National Standards Institute, 25 West 43rd Street, New York, NY 10036, telephone (212) 642-4900.

Synopsis

As background, the Commission's rules incorporate references to measurement and technical standards that have been established by standards-setting bodies such as American National Standards Institute, Accredited Standards Committee C63SC (ASC63), International Organization for Standardization (ISO), and International Electrotechnical Commission (IEC). The Commission's equipment authorization program for radiofrequency (RF) devices, for example, incorporates such references in § 2.910 of the Commission's rules, 47 CFR. These organizations periodically update their standards to maintain best practices in response to advancements in technologies and measurement capabilities. When these changes are of a substantive nature, the Commission uses the rulemaking process to evaluate whether the changes should be effectuated in its rules.

By the Public Notice (Notice), OET sought comment on updating the Commission's rules and procedures to reflect recent changes to two standards: ANSI C63.4a-2017 “American National Standard for Methods of Measurement of Radio-Noise Emissions from Low-Voltage Electrical and Electronic Equipment in the Range of 9 kHz to 40 GHz, Amendment 1: Test Site Validation” and ISO/IEC 17025:2017(E) “General requirements for the competence of testing and calibration laboratories.” As detailed below, the Notice discussed the role of these standards in the Commission's rules and it noted the recent changes made by the respective standards bodies.

ANSI C63.4a-2017. On November 11, 2018, upon publication of ANSI C63.4a-2017, ASC C63 requested that the Commission take the appropriate steps to reference it in our rules. ASC C63 also submitted a copy of the revised standard to the Commission in conjunction with its petition. As described in ASC C63's filing, the changes resolve certain normalized site attenuation issues (including the measurement of equipment under test that exceeds 2 meters in height) and make a variety of corrections, clarifications and modifications to parts of the standard. Accordingly, in the Notice, OET Commission sought comment on incorporating ANSI C63.4a-2017 into our rules.

ISO/IEC 17025:2017(E). In ET Docket No. 13-44, the Commission updated its rules to reference ISO/IEC standards related to the accreditation of Certification Bodies and Testing Laboratories, including ISO/IEC 17025:2005(E). A new version of this standard was published in November 2017, but has yet to be incorporated into the Commission's rules. In addition to adding a definition of “laboratory,” this version replaces certain prescriptive requirements with performance-based requirements and allows for greater flexibility in satisfying the standard's requirements for processes, procedures, documented information and organizational responsibilities.

Additionally, ISO and International Laboratory Accreditation Cooperation (ILAC) recently issued a joint communique that re-confirms that a three-year transition period will be allowed for accredited laboratories to transition to the 2017 version of ISO/IEC 17025. While both ISO/IEC 17025:2005(E) and ISO/IEC 17025:2017(E) will be valid during this three-year transition period, accreditations to ISO/IEC 17025:2005(E) will become invalid after November 30, 2020. OET sought comment on incorporating ISO/IEC 17025:2017(E) into the Commission's rules and adopting a three-year transition period, consistent with the ISO and ILAC joint communique.

Federal Communications Commission.
Julius Knapp,
Chief, Office of Engineering and Technology.

[FR Doc. 2019-09416 Filed 5-7-19; 8:45 am]

BILLING CODE 6712-01-P